DEPARTMENT OF THE TREASURY

United States Mint

Suspension of Coin Exchange by United States Mint

ACTION: Suspension of Coin Exchange by United States Mint.

SUMMARY: Under the authority of 31 U.S.C. 5120, the United States Mint established a program by which people and businesses could exchange bent and partial coins for reimbursement. Fused or mixed coins cannot be redeemed by the United States Mint.

Because of the possibility of unlawful activity on the exchange program, the United States Mint is suspending its redemption of bent and partial coins for a period of six months to assess the security of the program and develop additional safeguards, as necessary, to ensure the integrity of United States coinage.

The redemption of uncurrent coins, as defined by 31 CFR 100.10(a), is unaffected by this suspension. Uncurrent coins may still be redeemed by Federal Reserve banks and branches in accordance with the criteria and procedures set forth in 31 CFR 100.10.

DATES: Effective Date: November 2, 2015.

FOR FURTHER INFORMATION CONTACT: Tom Jurkowsky, Director, Office of Corporate Communications, United States Mint, Washington, DC, at (202) 354-7222 or 354-7227 or tom.jurkowsky@usmint.treas.gov.

Authority: 31 U.S.C. 5120

Dated: October 22, 2015.
Richard A. Peterson,
Deputy Director for Manufacturing and Quality, United States Mint.

[FR Doc. 2015-27487 Filed 10-28-15; 8:45 am]

BILLING CODE P